DEPARTMENT OF ENERGY

Federal Energy Regulatory Commission

[Project Nos. 2299-082; 14581-002]

Notice of Petition for Declaratory Order; Turlock Irrigation District, Modesto Irrigation District

Take notice that on October 2, 2020, pursuant to Rule 207 of the Federal Energy Regulatory Commission's Rules of Practice and Procedure, 18 CFR 385.207 (2020), Turlock Irrigation District and Modesto Irrigation District (collectively, Districts or Petitioners) filed a petition for declaratory order (Petition) requesting that the Commission issue a declaratory order finding that the California State Water Resources Control Board has waived its authority to issue certifications for the Don Pedro Hydroelectric Project and the La Grange Hydroelectric Project under section 401 of the Clean Water Act, 33 U.S.C. 1341(a)(1), as more fully explained in the Petition.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Petitioners.

Any person wishing to comment on the Districts' petition may do so.¹ The deadline for filing comments is 30 days from the issuance of this notice. The Commission encourages electronic submission of comments in lieu of paper using the “eFiling” link at http://www.ferc.gov. Persons unable to file electronically should send comments to the following address: Federal Energy Regulatory Commission, 888 First Street NE, Washington, DC 20426. Hand delivered submissions in docketed proceedings should be delivered to Health and Human Services, 12225 Wilkins Avenue, Rockville, Maryland 20852. Be sure to reference the project docket numbers (P-2299-082 and P-14581-002) with your submission.

¹ The Districts' request is part of the licensing proceedings in Project Nos. 2299-082 and 14581-002. Thus, any person that intervened in either licensing proceeding is already a party. Generally, the filing of a petition for a declaratory order involving an issue arising from the licensing proceeding does not trigger a new opportunity to intervene. Accordingly, at this point in this proceeding, any person seeking to become a party to the proceeding must file a motion to intervene out-of-time pursuant to Rule 214(b)(3) and (d) of the Commission's Rules of Practice and Procedure that provides justification by reference to the factors set forth in Rule 214(d). The Commission may limit a late intervenor's participation to the issues raised in the petition for declaratory order. 18 CFR 385.214(d)(3)(i).

In addition to publishing the full text of this document in the Federal Register, the Commission provides all interested persons an opportunity to view and/or print the contents of this document via the internet through the Commission's Home Page (http://www.ferc.gov) using the “eLibrary” link. Enter the docket number excluding the last three digits in the docket number field to access the document. At this time, the Commission has suspended access to Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

Comment Date: 5:00 p.m. Eastern Time on December 7, 2020.

Dated: November 6, 2020.
Nathaniel J. Davis, Sr.,
Deputy Secretary.

[FR Doc. 2020-25113 Filed 11-12-20; 8:45 am]

BILLING CODE 6717-01-P